DEPARTMENT OF HEALTH AND HUMAN SERVICES

Proposed HHS Recommendation for Fluoride Concentration in Drinking Water for Prevention of Dental Caries; Extension of Comment Period

AGENCY: Office of the Secretary, Department of Health and Human Services.

ACTION: Notice.

SUMMARY: The Department of Health and Human Services (HHS) is extending the comment period for a proposed recommendation that community water systems adjust the amount of fluoride in drinking water to 0.7 mg/L to provide the best of balance of protection from dental caries while limiting the risk of dental fluorosis. The proposed recommendation was published in the Federal Register on January 13, 2011, Volume 76, Number 9, page 2383.

DATES: The comment period on the proposed recommendations for fluoride concentration in drinking water for the prevention of dental caries has been extended to April 15, 2011. To receive consideration comments must be received no later than 11:59 p.m. EST on that date.

ADDRESSES: Comments are preferred electronically and may be addressed to CWFcomments@cdc.gov. Written responses should be addressed to the Department of Health and Human Services, Centers for Disease Control and Prevention, CWF Comments, Division of Oral Health, National Center for Chronic Disease Prevention and Health Promotion (NCCDPHP), 4770 Buford Highway, NE., MS F-10, Atlanta, GA 30341-3717.

FOR FURTHER INFORMATION CONTACT: Barbara F. Gooch, Associate Director for Science (Acting), 770-488-6054, CWFcomments@cdc.gov, Division of Oral Health, National Center for Chronic Disease Prevention and Health Promotion (NCCDPHP), Centers for Disease Control and Prevention, 4770 Buford Highway, NE., MS F-10, Atlanta, GA 30341-3717.

SUPPLEMENTARY INFORMATION: The proposed recommendation was published in the Federal Register on January 13, 2011 (Volume 76, Number 9, page 2383) with a deadline for written comments of February 14, 2011. The proposed recommendation will update and replace the 1962 U.S. Public Health Service Drinking Water Standards related to recommendations for fluoride concentrations in drinking water. The U.S. Public Health Service recommendations for optimal fluoride concentrations were based on ambient air temperature of geographic areas and ranged from 0.7-1.2 mg/L.

HHS proposes to update and replace these recommendations because of new data that address changes in the prevalence of dental fluorosis, fluid intake among children, and the contribution of fluoride in drinking water to total fluoride exposure in the United States. As of December 31, 2008, the Centers for Disease Control and Prevention (CDC) estimated that 16,977 community water systems provided fluoridated water to 196 million people.

Since the proposed recommendation was published the Department has received a request to extend the comment period by an additional 60 days to allow sufficient time for a full review of the proposed action, including potential economic and health impacts. HHS is committed to affording the public a meaningful opportunity to comment on the proposed recommendation and supporting rationale and welcomes comments.

Dated: February 17, 2011.
Kathleen Sebelius,
Secretary.

[FR Doc. 2011-4343 Filed 2-25-11; 8:45 am]

BILLING CODE 4150-28-P